FEDERAL ELECTION COMMISSION

Sunshine Act Meeting

Date and Time: Thursday, March 11, 2004, 10 A.M.

Place: 999 E Street, NW., Washington, DC (Ninth Floor).

Status: This meeting will be open to the public.

The Following Item Has Been Added to the Agenda: Eligibility Report—Rev. Alfred C. Sharpton/Sharpton 2004

Person to Contact for Information: Robert Biersack, Acting Press Officer, Telephone (202) 694-1220.

Mary W. Dove,
Secretary of the Commission.

[FR Doc. 04-5342 Filed 3-5-04; 11:12 am]

BILLING CODE 6715-01-M